DEPARTMENT OF HOMELAND SECURITY

Coast Guard

[USCG-2003-14471]

National Maritime Security Advisory Committee; Vacancies

AGENCY: Coast Guard, DHS.

ACTION: Notice of committee establishment and request for applications.

SUMMARY: Under the Federal Advisory Committee Act, the Secretary of Homeland Security is establishing the National Maritime Security Advisory Committee (NMSAC) pursuant to the Maritime Transportation Security Act of 2002, Public Law 107-295, and requesting qualified individuals interested in serving on this committee to apply for membership.

DATES: Application forms for membership should reach the Coast Guard on or before August 8, 2003.

ADDRESSES: You may request a copy of the charter for the National Committee or a form to apply for membership by writing to Lieutenant Junior Grade Holly Wendelin, Commandant (G-MPS-2), U.S. Coast Guard, 2100 Second Street SW., Washington, DC 20590-0001; by calling 202-267-4132; or by faxing 202-267-4130. Send your application in written form to the above street address. This notice and the application form are available on the Internet at http://dms.dot.gov.

FOR FURTHER INFORMATION CONTACT: If you have questions, call Lieutenant Junior Grade Holly Wendelin at 202-267-4132.

SUPPLEMENTARY INFORMATION: Establishment of the National Maritime Security Advisory Committee. The Federal Advisory Committee Act (FACA), Public Law 92-463, 86 Stat. 470 (5 U.S.C. App. 2), governs the establishment of committees by Federal agencies. Section 102 of the Maritime Transportation Security Act of 2002 (Public Law 107-295) added section 70112 to Title 46 of the U.S. Code which requires the Secretary of the Department in which the Coast Guard is operating to establish a National Maritime Security Advisory Committee.

The NMSAC will advise, consult with, report to, and make recommendations to the Secretary on matters relating to national maritime security. Such matters may include, but not be limited to:

• developing a national strategy and policy to provide for efficient, coordinated and effective action to deter and minimize damage from maritime related transportation security incidents;

• recommending actions required to meet current and future security threats to ports, vessels, facilities, waterways and their associated inter-modal transportation connections and critical infrastructure;

• promoting international cooperation and multilateral solutions to maritime security issues;

• addressing security issues and concerns brought to the Committee by segments of the maritime transportation industry, or other port and waterway stakeholders; and,

• examining such other matters, related to those above, that the Secretary may charge the Committee with addressing.

FACA requires advisory committees to meet at least yearly. However, we anticipate that NMSAC will meet more frequently. Subcommittees of NMSAC may also meet between meetings of the parent committee. Most meetings will be held at Coast Guard Headquarters in Washington, DC, but some meetings may be held at locations around the country.

Request for Applications to the NMSAC

NMSAC will be composed of seven members each of whom must have at least 5 years practical experience in maritime security operations. Applicants may be required to pass an appropriate security background check prior to appointment to the committee.

Applicants should submit their application on Form DOT F 1120.1 to Commander Scott at the address given in the ADDRESSES section at the beginning of this Notice. The application form is available from Lieutenant Junior Grade Wendelin by calling her at 202-267-4132, or by going to the docket for this notice [USCG-2003-14471] at http://dms.dot.gov.

Members' terms of office will be for up to 5 years; however, to permit orderly turnover of the committee's membership, terms of office will be staggered, and the members initially appointed to NMSAC will be appointed to terms of 3, 4 or 5 years. Members will be eligible to serve an additional term of office. While attending meetings or when otherwise engaged in committee business, members will be reimbursed for travel expenses as permitted under applicable Federal travel regulations. However, members will not receive any salary or other compensation for their service on the National Committee.

In support of the policy of the U.S.C.G. on gender and ethnic diversity, we encourage qualified women and members of minority groups to apply.

Dated: July 2, 2003.
T.H. Gilmour,
Rear Admiral, U.S. Coast Guard, Assistant Commandant for Marine Safety, Security and Environmental Protection.

[FR Doc. 03-17371 Filed 7-8-03; 8:45 am]

BILLING CODE 4910-15-P